FEDERAL COMMUNICATIONS COMMISSION

47 CFR Part 1

[GN Docket No. 18-22; FCC 18-18]

Encouraging the Provision of New Technologies and Services to the Public; Correction

AGENCY: Federal Communications Commission.

ACTION: Proposed rule; correction.

SUMMARY: This document corrects the preamble to a proposed rule published in the Federal Register on April 4, 2018 regarding the Provision of New Technologies and Services to the Public. The comment periods in the DATES section of the proposed rule published on April 4, 2018, inaccurately reflected a 30-day comment period and 45-day reply comment period, instead of the 45-day comment period, 75-day reply comment deadline stated in the proposed rule. Any comments made before this correction is published will be considered.

DATES: Comments are due on or before May 21, 2018; reply comments are due on or before June 20, 2018.

ADDRESSES: You may submit comments, identified by GN Docket No. 18-22, by any of the following methods:

• Federal Communications Commission's website: http://www.fcc.gov/cgb/ecfs/. Follow the instructions for submitting comments.

• Mail: Filings can be sent by hand or messenger delivery, by commercial overnight courier, or by first-class or overnight U.S. Postal Service mail (although the Commission continues to experience delays in receiving U.S. Postal Service mail). All filings must be addressed to the Commission's Secretary, Office of the Secretary, Federal Communications Commission.

• People With Disabilities: Contact the FCC to request reasonable accommodations (accessible format documents, sign language interpreters, CART, etc.) by email: FCC504@fcc.gov or phone: (202) 418-0530 or TTY: (202) 418-0432. For detailed instructions for submitting comments and additional information on the rulemaking process, see the SUPPLEMENTARY INFORMATION section of this document.

FOR FURTHER INFORMATION CONTACT: For additional information, contact Paul Murray, of the Office of Engineering and Technology, (202) 418-0688, Paul.Murray@fcc.gov.

Correction: In the Federal Register of April 4, 2018, in FR Doc.2018-06741, on page 14395, in the first column, correct the “Dates” caption to read:

DATES: Comments are due on or before May 21, 2018; reply comments are due on or before June 20, 2018.

Dated: April 4, 2018.
Federal Communications Commission
Katura Jackson,
Federal Register Liaison Officer Office of the Secretary.

[FR Doc. 2018-07369 Filed 4-10-18; 8:45 am]

BILLING CODE 6712-01-P